DEPARTMENT OF ENERGY

Federal Energy Regulatory Commission

Combined Notice Of Filings #1

Take notice that the Commission received the following electric rate filings:

Docket Numbers: ER10-2331-053; ER14-630-028; ER10-2319-044; ER10-2317-044; ER13-1351-026; ER10-2330-051.

Applicants: J.P. Morgan Ventures Energy Corporation, AlphaGen Power LLC, BE Alabama LLC, BE CA LLC, Florida Power Development LLC, Utility Contract Funding, L.L.C.

Description: Non-Material Change in Status of the J.P. Morgan Sellers.

Filed Date: 1/19/16.

Accession Number: 20160119-5455.

Comments Due: 5 p.m. ET 2/9/16.

Docket Numbers: ER11-4073-003.

Applicants: PJM Interconnection, L.L.C.

Description: Compliance filing: Complaince Filing for Service Agreement No. 2962 to be effective 6/17/2011.

Filed Date: 1/20/16.

Accession Number: 20160120-5122.

Comments Due: 5 p.m. ET 2/10/16.

Docket Numbers: ER14-325-007; ER13-2409-007; ER11-4498-011; ER11-4499-011; ER11-4500-010; ER11-4507-009; ER12-128-008; ER11-4501-012; ER12-979-011; ER14-2858-006; ER11-4363-007; ER12-2448-011; ER12-2542-007.

Applicants: Enel Cove Fort, LLC, Buffalo Dunes Wind Project, LLC, Smoky Hills Wind Farm, LLC, Smoky Hills Wind Project II, LLC, Enel Stillwater, LLC, Canastota Windpower, LLC, EGP Stillwater Solar, LLC, Caney River Wind Project, LLC, Rocky Ridge Wind Project, LLC, Origin Wind Energy, LLC, Osage Wind, LLC, Chisholm View Wind Project, LLC, Prairie Rose Wind, LLC.

Description: Notice of Change in Status of Enel Cove Fort, LLC, et. al. under ER14-325, et. al.

Filed Date: 1/19/16.

Accession Number: 20160119-5448.

Comments Due: 5 p.m. ET 2/9/16.

Docket Numbers: ER16-457-001.

Applicants: California Independent System Operator Corporation.

Description: Tariff Amendment: 20160120-Errata_Pearblossom Certificate of Concurrence-SvcAgmt3480 to be effective 12/2/2015.

Filed Date: 1/20/16.

Accession Number: 20160120-5139.

Comments Due: 5 p.m. ET 2/1/16.

Docket Numbers: ER16-754-000.

Applicants: PacifiCorp.

Description: § 205(d) Rate Filing: Tri-State NITSA Rev 7 to be effective 1/1/2016.

Filed Date: 1/20/16.

Accession Number: 20160120-5141.

Comments Due: 5 p.m. ET 2/10/16.

Docket Numbers: ER16-755-000.

Applicants: Frontier El Dorado Refining LLC.

Description: § 205(d) Rate Filing: HollyFrontier El Dorado Refining LLC Notice of Succession Filing to be effective 1/21/2016.

Filed Date: 1/20/16.

Accession Number: 20160120-5148.

Comments Due: 5 p.m. ET 2/10/16.

Docket Numbers: ER16-756-000.

Applicants: PJM Interconnection, L.L.C.

Description: Tariff Cancellation: Notice of Cancellation of WMPA SA No. 3320, Queue No. X3-043 to be effective 3/7/2016.

Filed Date: 1/21/16.

Accession Number: 20160121-5070.

Comments Due: 5 p.m. ET 2/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 21, 2016.
Nathaniel J. Davis, Sr.,
Deputy Secretary.

[FR Doc. 2016-01799 Filed 2-1-16; 8:45 am]

BILLING CODE 6717-01-P